DEPARTMENT OF THE INTERIOR

Fish and Wildlife Service

[Docket No. FWS-HQ-IA-2019-0108; FXIA16710900000-201-FF09A30000]

Foreign Endangered Species; Receipt of Permit Applications

AGENCY: Fish and Wildlife Service, Interior.

ACTION: Notice of receipt of permit applications; request for comments.

SUMMARY: We, the U.S. Fish and Wildlife Service, invite the public to comment on applications to conduct certain activities with foreign species that are listed as endangered under the Endangered Species Act (ESA). With some exceptions, the ESA prohibits activities with listed species unless Federal authorization is issued that allows such activities. The ESA also requires that we invite public comment before issuing permits for any activity otherwise prohibited by the ESA with respect to any endangered species.

DATES: We must receive comments by January 13, 2020.

ADDRESSES:

Obtaining Documents: The applications, application supporting materials, and any comments and other materials that we receive will be available for public inspection at http://www.regulations.gov in Docket No. FWS-HQ-IA-2019-0108.

Submitting Comments: When submitting comments, please specify the name of the applicant and the permit number at the beginning of your comment. You may submit comments by one of the following methods:

• Internet: http://www.regulations.gov. Search for and submit comments on Docket No. FWS-HQ-IA-2019-0108.

• U.S. mail or hand-delivery: Public Comments Processing, Attn: Docket No. FWS-HQ-IA-2019-0108; U.S. Fish and Wildlife Service Headquarters, MS: PERMA; 5275 Leesburg Pike; Falls Church, VA 22041-3803.

For more information, see Public Comment Procedures under SUPPLEMENTARY INFORMATION.

FOR FURTHER INFORMATION CONTACT: Brenda Tapia, by phone at 703-358-2104, via email at DMAFR@fws.gov, or via the Federal Relay Service at 800-877-8339.

SUPPLEMENTARY INFORMATION:

I. Public Comment Procedures

A. How do I comment on submitted applications?

We invite the public and local, State, Tribal, and Federal agencies to comment on these applications. Before issuing any of the requested permits, we will take into consideration any information that we receive during the public comment period.

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments at http://www.regulations.gov, unless our allowing so would violate the Privacy Act (5 U.S.C. 552a) or Freedom of Information Act (5 U.S.C. 552).

C. Who will see my comments?

If you submit a comment at http://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(c) of the Endangered Species Act of 1973, as amended (ESA; 16 U.S.C. 1531 et seq.), we invite public comments on permit applications before final action is taken. With some exceptions, the ESA prohibits certain activities with listed species unless Federal authorization is issued that allows such activities. Permits issued under section 10(a)(1)(A) of the ESA allow otherwise prohibited activities for scientific purposes or to enhance the propagation or survival of the affected species. Service regulations regarding prohibited activities with endangered species, captive-bred wildlife registrations (CBWs), and permits for any activity otherwise prohibited by the ESA with respect to any endangered species are available in title 50 of the Code of Federal Regulations in part 17.

III. Permit Applications

We invite comments on the following applications.

Applicant: Sea Turtle Conservancy, Gainesville, FL; Permit No. 56757D

The applicant requests authorization to import blood and tissue samples of live or gut contents from dead hawksbill sea turtles (Eretmochelys imbricata) and Kemp's ridley sea turtles (Lepidochelys kempii) from Bermuda for the purpose of scientific research. This notification covers activities to be conducted by the applicant over a 5-year period.

Applicant: Cleveland Amory Black Beauty Ranch dba Fund for Animals, Murchison, TX; Permit No. 54793D

The applicant requests authorization to import two female tigers (Panthera tigris) from SPCA de Montreal, Montreal, Quebec, Canada. This notification is for a single import.

Applicant: Safe Haven Wildlife Sanctuary, Imlay, NV; Permit No. 54785D

The applicant requests authorization to import one male tiger (Panthera tigris) from SPCA de Montreal, Montreal, Quebec, Canada. This notification is for a single import.

Applicant: The Wildcat Sanctuary, Sandstone, MN; Permit No. 54787D

The applicant requests authorization to import one male and one female tiger (Panthera tigris) from SPCA de Montreal, Montreal, Quebec, Canada. This notification is for a single import.

Applicant: Triple D Game Farm, Kalispell, MT; Permit No. 44811D

The applicant requests a captive-bred wildlife registration (CBW) under 50 CFR 17.21(g) for snow leopard (Uncia uncia) and Amur leopard (Panthera pardus orientalis) to enhance the propagation or survival of the species. This notification covers activities to be conducted by the applicant over a 5-year period.

Applicant: Palfram Ranch Management LLC, Giddings TX; Permit No. 64737A

The applicant requests a CBW under 50 CFR 17.21(g) for barasingha (Rucervus duvaucelii) and red lechwe (Kobus leche) to enhance the propagation or survival of the species. This notification covers activities to be conducted by the applicant over a 3-year period.

Applicant: Jeffrey Kengor, Brunswick, MD; Permit No. 41285D

The applicant requests a CBW under 50 CFR 17.21(g) for radiated tortoise (Astrochelys radiata) to enhance the propagation or survival of the species. This notification covers activities to be conducted by the applicant over a 5-year period.

Applicant: New Jersey Aquarium LLC dba Adventure Aquarium, Camden, NJ; Permit No. 44974D

The applicant requests a CBW under 50 CFR 17.21(g) for African penguin (Spheniscus demersus) to enhance the propagation or survival of the species. This notification covers activities to be conducted by the applicant over a 5-year period.

Applicant: City of San Jose dba Happy Hollow Zoo, San Jose, CA; Permit No. 44888D

The applicant requests a CBW under 50 CFR 17.21(g) for Parma wallaby (Macropus parma) to enhance the propagation or survival of the species. This notification covers activities to be conducted by the applicant over a 5-year period.

Applicant: Potter Park Zoo, Ingham County, Lansing, MI; Permit No. 15052D

On August 16, 2019, we published a Federal Register notice inviting the public to comment on an application for a captive-bred wildlife registration (84 FR 42006). The comment period closed on September 16, 2019. We are now reopening the comment period for this application, because our August 16, 2019, notice listed six species, inadvertently omitting one species, the African lion (Panthera leo leo). The applicant requests a CBW under 50 CFR 17.21(g) for the following seven species, to enhance the propagation or survival of the species. This notification covers activities to be conducted by the applicant over a 5-year period.

Common name | Scientific name
Black rhinoceros | Diceros bicornis.
Golden lion tamarin | Leontopithecus rosalia.
Tiger | Panthera tigris.
Snow leopard | Uncia uncia.
Mandrill | Mandrillus sphinx.
Cottontop marmoset | Saguinus oedipus.
African lion | Panthera leo.

Multiple Trophy Applicants

The following applicants request permits to import sport-hunted trophies of male bontebok (Damaliscus pygargus pygargus) culled from a captive herd maintained under the management program of the Republic of South Africa, for the purpose of enhancing the propagation or survival of the species.

Applicant: Aaron Clements, Midland, TX; Permit No. 50006D

Applicant: John Stagg, Zachary LA; Permit No. 55013D

Applicant: James Eubanks, Ebony, VA; Permit No. 56372D

Applicant: Chrys Potts, Anchorage, AK; Permit No. 38251D

IV. Next Steps

After the comment period closes, we will make decisions regarding permit issuance. If we issue permits to any of the applicants listed in this notice, we will publish a notice in the Federal Register. You may locate the notice announcing the permit issuance by searching http://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations.

Brenda Tapia,
Program Analyst/Data Administrator, Branch of Permits, Division of Management Authority.

[FR Doc. 2019-26753 Filed 12-11-19; 8:45 am]

BILLING CODE 4333-15-P